DEPARTMENT OF HEALTH AND HUMAN SERVICES

National Institutes of Health

National Institute of General Medical Sciences; Amended Notice of Meeting

Notice is hereby given of a change in the meeting of the National Institute of General Medical Sciences Special Emphasis Panel, August 17, 2009, 8 a.m. to August 17, 2009, 5 p.m., National Institutes of Health, Natcher Building, Room 3AN12, 45 Center Drive, Bethesda, MD, 20892 which was published in the Federal Register on July 24, 2009, 74 FR 36728.

The meeting has been changed from August 17, 2009 to August 20, 2009. The meeting is closed to the public.

Dated: August 4, 2009.
Jennifer Spaeth,
Director, Office of Federal Advisory Committee Policy.

[FR Doc. E9-19091 Filed 8-10-09; 8:45 am]

BILLING CODE 4140-01-M